DEPARTMENT OF LABOR

Employment and Training Administration

[TA-W-37, 608]

Concord Fabrics, Inc., New York City, New York; Dismissal of Application for Reconsideration

Pursuant to 29 CFR 90.18(C) an application for administrative reconsideration was filed with the Director of the Division of Trade Adjustment Assistance for workers at Concord Fabrics, Inc., New York City, New York. The application contained no new substantial information which would bear importantly on the Department's determination. Therefore, dismissal of the application was issued.

TA-W-37,608; Concord Fabrics, Inc. New York City, New York (July 12, 2000)

Signed at Washington, D.C. this 12th day of July, 2000.
Grant D. Beale,
Program Manager, Division of Trade Adjustment Assistance.

[FR Doc. 00-18356 Filed 7-19-00; 8:45 am]

BILLING CODE 4510-30-M